DEPARTMENT OF COMMERCE

International Trade Administration

(A-570-894)

Certain Tissue Paper Products From the People's Republic of China: Extension of Time Limit for Preliminary Results of 2008-2009 Administrative Review

AGENCY: Import Administration, International Trade Administration, Department of Commerce.

EFFECTIVE DATE: November 17, 2009.

FOR FURTHER INFORMATION CONTACT: Brian Smith or Gemal Brangman, AD/CVD Operations, Office 2, Import Administration, International Trade Administration, U.S. Department of Commerce, 14th Street and Constitution Avenue, NW, Washington, DC 20230; telephone (202) 482-1766 or (202) 482-3773, respectively.

SUPPLEMENTARY INFORMATION:

Background

On April 27, 2009, the Department of Commerce (the Department) published in the Federal Register a notice of initiation of administrative review of the antidumping duty order on certain tissue products from the People's Republic of China (PRC), covering the period March 1, 2008, through February 28, 2009. See Initiation of Antidumping and Countervailing Duty Administrative Reviews and Request for Revocation in Part, 74 FR 19042 (April 27, 2009). The preliminary results for this administrative review are currently due no later than December 1, 2009.

Extension of Time Limits for Preliminary Results

Section 751(a)(3)(A) of the Tariff Act of 1930, as amended (the Act), requires the Department to issue the preliminary results of an administrative review within 245 days after the last day of the anniversary month of the date of publication of an order for which a review is requested. If it is not practicable to complete the review within this time period, section 751(a)(3)(A) of the Act allows the Department to extend this deadline to a maximum of 365 days.

In this administrative review, the petitioner placed on the record in a timely manner a large amount of information alleging that the respondent, Max Fortune Industrial Limited and Max Fortune (FETDE) Paper Products Co., Ltd. (collectively referred to as “Max Fortune”), has not reported (1) multiple affiliates involved in the production and/or sale of the subject merchandise exported to the United States during the POR; and (2) multiple unaffiliated suppliers of raw materials and converting services involved in the production of the subject merchandise exported to the United States during the POR.¹ Max Fortune subsequently placed a lengthy response submission on the record denying those allegations.² The Department requires additional time to review and analyze the data the petitioner and Max Fortune have placed on the record with regard to this issue. Furthermore, the Department requires additional time to obtain additional information from, and conduct verification of the questionnaire responses submitted by the other respondent in this case, Seaman Paper Asia Company Limited. Thus, it is not practicable to complete this review within the original time limit. Therefore, the Department is fully extending the time limit for completion of the preliminary results by 120 days to 365 days, in accordance with section 751(a)(3)(A) of the Act. The preliminary results are now due no later than March 31, 2010. The final results continue to be due 120 days after publication of the preliminary results.

¹ See the petitioner's submission dated September 15, 2009.

² See the respondent's October 19, 2009, submission.

We are issuing and publishing this notice in accordance with section 751(a)(3)(A) of the Act and 19 CFR 351.213(h)(2).

Dated: November 10, 2009.
John M. Andersen,
Acting Deputy Assistant Secretary for Antidumping and Countervailing Duty Operations.

[FR Doc. E9-27576 Filed 11-16-09; 8:45 am]

BILLING CODE 3510-DS-S